OFFICE OF THE UNITED STATES TRADE REPRESENTATIVE

Generalized System of Preferences (GSP): Notice Regarding the Review of a Petition To Withdraw the Eligibility of Certain Sleeping Bags Under the GSP Program

AGENCY: Office of the United States Trade Representative.

ACTION: Notice and solicitation of comments.

SUMMARY: The Office of the United States Trade Representative (USTR) has accepted for review a petition to remove certain sleeping bags (HTS9404.30.80) from the list of products eligible for duty-free treatment under the GSP program. This notice sets forth the schedule for submitting comments and review of the petition.

FOR FURTHER INFORMATION CONTACT: Tameka Cooper, GSP Program, Office of the United States Trade Representative, 1724 F Street, NW., Washington, DC 20508. The telephone number is (202) 395-6971, the fax number is (202) 395-2961, and the e-mail address is Tameka_Cooper@ustr.eop.gov.

DATES: The schedule for reviewing the petition for the withdrawal of duty-free treatment under the GSP program for certain sleeping bags (HTS9404.30.80) is set forth below. Notice of any changes to the schedule will be given in the Federal Register.

February 12, 2010—Comments on the petition must be submitted by 5 p.m.

April 2010—The USITC is scheduled to provide a report providing advice on the potential impacts on U.S. industry and consumers with respect to the petition.

SUPPLEMENTARY INFORMATION: The GSP program provides for the duty-free importation of eligible articles when imported from designated beneficiary developing countries. The GSP program is authorized by Title V of the Trade Act of 1974 (19 U.S.C. 2461, et seq.), as amended (the “1974 Act”), and is implemented in accordance with Executive Order 11888 of November 24, 1975, as modified by subsequent Executive Orders and Presidential Proclamations.

The GSP Subcommittee of the Trade Policy Staff Committee (TPSC) has accepted for review a petition to withdraw duty-free treatment under the GSP for certain sleeping bags (HTS9404.30.80). Additional information regarding this petition is provided in “Petition Accepted for Review—Sleeping Bags” at http://www.regulations.gov, docket number USTR-2010-0004. Acceptance of a petition for review does not indicate any opinion with respect to the disposition on the merits of the petition. Acceptance indicates only that the petition has been found eligible for review and that such review will take place.

Opportunities for Public Comment

The GSP Subcommittee of the TPSC invites written comments in support of or in opposition to the petition to withdraw duty-free treatment under the GSP for certain sleeping bags in addition to comments on the advice provided by the U.S. International Trade Commission.

Requirements for Submissions and Inspection of Comments

The GSP regulations (15 CFR Part 2007) set forth the kind information that should be included in written comments. Submissions should comply with the GSP regulations, except as modified below. All submissions should include the case number and eight-digit HTSUS subheading number as shown in the “Petition Accepted for Review—Sleeping Bags” available at: http://www.ustr.gov/trade-topics/trade-development/preference-programs/generalized-system-preference-gsp/current-review-1 and in www.regulations.gov, docket number USTR-2010-0004 All non-business confidential comments will be available for review at www.regulations.gov, docket number USTR-2010-0004.

Submissions in response to this notice (including written comments and all business confidential submissions), must be submitted electronically by the relevant deadline listed above using www.regulations.gov., docket number USTR-2010-0004. Instructions for submitting business confidential versions are provided below. Hand-delivered submissions will not be accepted. Submissions must be submitted in English to the Chairman of the GSP Subcommittee, Trade Policy Staff Committee, by the applicable deadlines set forth in this notice.

To make a submission using www.regulations.gov, enter docket number USTR-2010-0004 on the home page and click “Search.” The site will provide a search-results page listing all documents associated with this docket. Locate the reference to this notice by selecting “Notices” under “Document Type”. Locate the reference to this notice by selecting “Notices” under “Document Type” on the left side of the search-results page, and click on the link entitled “Submit a Comment”. (For further information on using the www.regulations.gov Web site, please consult the resources provided on the Web site by clicking “How to Use This Site” on the left side of the home page.)

The www.regulations.gov Web site offers the option of providing comments by filling in a “Type Comment and Upload File” field or by attaching a document. USTR prefers for comments to be provided in an attached document. If a document is attached, it is sufficient to type “See attached” in the “Type Comment and Upload File” field.

Comments must be in English, with the total submission not to exceed 30 single-spaced standard letter-size pages in 12-point type, including attachments. Any data attachments to the submission should be included in the same file as the submission itself, and not as separate files.

Any person or party making a submission is strongly advised to review the GSP regulations and GSP Guidebook (available at: http://www.ustr.gov/trade-topics/trade-development/preference-programs/generalized-system-preference-gsp/gsp-program-inf).

Business Confidential Submissions

A person requesting that information contained in a comment submitted by that person be treated as confidential business information must certify that such information is business confidential and would not customarily be released to the public by the submitter. Confidential business information must be clearly designated as such, the submission must be marked “BUSINESS CONFIDENTIAL” at the top and bottom of the cover page and each succeeding page, and the submission should indicate, via brackets, the specific information that is confidential. Additionally, “Business Confidential” should be included in the “Type comment & Upload file” field. Anyone submitting a comment containing business confidential information must also submit as a separate submission a non-confidential version of the confidential submission, indicating where confidential information has been redacted. The non-confidential summary will be placed in the docket and open to public inspection.

Marideth Sandler,
Executive Director, Generalized System of Preferences (GSP) Program, and Chair, GSP Subcommittee, Office of the U.S. Trade Representative.

[FR Doc. 2010-1325 Filed 1-25-10; 8:45 am]

BILLING CODE 3190-W0-P